DEPARTMENT OF COMMERCE

National Oceanic and Atmospheric Administration

Agency Information Collection Activities; Submission to the Office of Management and Budget (OMB) for Review and Approval; Comment Request; Florida Fishing and Boating Survey

AGENCY: National Oceanic & Atmospheric Administration (NOAA), Commerce.

ACTION: Notice; correction.

SUMMARY: On May 6, 2022, the Department of Commerce, published a 60-day public comment period notice in the Federal Register with FR Document Number 2022-09819 (Pages 27134-27135) seeking public comments for an information collection entitled, “Florida Fishing and Boating Survey.” This document is being modified with new information in the ABSTRACT and DATA sections, and Commerce hereby issues a correction notice as required by the Paperwork Reduction Act of 1995.

FOR FURTHER INFORMATION CONTACT: For additional information concerning this correction, contact Adrienne Thomas, NOAA PRA Officer, at NOAA.PRA@noaa.gov.

SUPPLEMENTARY INFORMATION:

Correction

Abstract

This request is for a revision and extension of a currently approved information collection and is sponsored by NOAA's Southeast Fisheries Science Center (SEFSC).

The objective of the data collection effort under OMB Control Number 0648-0769 is to understand how Florida anglers respond to changes in trip costs and/or fishing regulations in the Gulf of Mexico and Atlantic Ocean. The population to be surveyed consists of those anglers who fish in the Gulf of Mexico or Atlantic Ocean from Florida for reef fish species. The sample will be drawn from the list of Florida anglers with the State Reef Fish Angler license designation and matched to the state of Florida's boat registration list. The sample is targeted to anglers who fish for reef species who fish from a boat given that most reef species occur offshore.

Data

Type of Review: Regular submission, revision and extension of a current information collection.

Estimated Number of Respondents: 2,000.

Estimated Total Annual Burden Hours: 100.

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-10918 Filed 5-19-22; 8:45 am]

BILLING CODE 3510-22-P